DEPARTMENT OF HEALTH AND HUMAN SERVICES

Food and Drug Administration

21 CFR Part 216

[Docket No. FDA-1999-N-0194]

RIN 0910-AH08

Additions and Modifications to the List of Drug Products That Have Been Withdrawn or Removed From the Market for Reasons of Safety or Effectiveness; Correction

AGENCY: Food and Drug Administration, HHS.

ACTION: Proposed rule; withdrawal of previous proposed rule; correction.

SUMMARY: The Food and Drug Administration (FDA) is correcting a document entitled “Additions and Modifications to the List of Drug Products That Have Been Withdrawn or Removed From the Market for Reasons of Safety or Effectiveness” that appeared in the Federal Register of July 2, 2014. The document proposed amending FDA's regulations to revise the list of drug products that may not be compounded under the exemptions provided by the Federal Food, Drug, and Cosmetic Act because the drug products have been withdrawn or removed from the market after the drug products or components of such drug products were found to be unsafe or not effective. The document also withdrew the previous proposed rule regarding additions to this list (see the Federal Register of January 4, 2000). The document was published with an incorrect RIN number. This document corrects the error.

DATES: The proposed rule published July 2, 2014 (79 FR 37687) is corrected as of November 17, 2014.

FOR FURTHER INFORMATION CONTACT: Edisa Gozun, Center for Drug Evaluation and Research, Food and Drug Administration, 10903 New Hampshire Ave., Bldg. 51, Rm. 5199, Silver Spring, MD 20993-0002, 301-796-3110.

SUPPLEMENTARY INFORMATION: In FR Doc. 2014-15371, appearing on page 37687 in the Federal Register of July 2, 2014 (79 FR 37687), FDA is making the following correction:

1. On page 37687, in the first column, the RIN number heading is corrected to read “RIN 0910-AH08”.

2. On page 37687, in the second column, the RIN number under the ADDRESSES heading is corrected to read “RIN 0910-AH08”.

3. On page 37687, in the second column, the RIN number under the Instructions sub-heading is corrected to read “RIN 0910-AH08”.

Dated: November 10, 2014.
Leslie Kux,
Assistant Commissioner for Policy.

[FR Doc. 2014-27038 Filed 11-14-14; 8:45 am]

BILLING CODE 4164-01-P